DEPARTMENT OF AGRICULTURE

Rural Housing Service

Rural Business-Cooperative Service

Rural Utilities Service

Farm Service Agency

7 CFR Part 1956

RIN 0570-AA88

Rural Development Loan Servicing; Correction

AGENCY: Rural Housing Service, Rural Business-Cooperative Service, Rural Utilities Service, and Farm Service Agency USDA.

ACTION: Direct final rule; correction.

SUMMARY: This document contains corrections to the published rule in the Federal Register of March 13, 2015, entitled “Rural Development Loan Servicing.”

DATES: Effective November 25, 2015.

FOR FURTHER INFORMATION CONTACT: Melvin Padgett, Rural Development, Business Programs, U.S. Department of Agriculture, 1400 Independence Avenue SW., STOP 3226, Washington, DC 20250-3225; telephone (202) 720-1495; email melvin.padgett@wdc.usda./gov.

SUPPLEMENTARY INFORMATION: In the rule that is the subject of this correction, the Agency revised 7 CFR 1956.101 as intended, but the Agency inadvertently did not make the correct conforming change in 7 CFR 1956.147. To correct this oversight, the Agency is “reserving” 7 CFR 1956.147 in its entirety. This correction has no substantive effect on how debts are settled under this part.

Need for Correction

As published, the text that remains in 7 CFR 1956.147 after the March 13, 2015, rule may be misleading and cause confusion as a result of the changes made to 7 CFR 1956.101 in the March 13, 2015, rule.

List of Subjects in 7 CFR Part 1956

Loan programs—agriculture, Loan programs—housing and community development.

Accordingly, 7 CFR 1956.147 is corrected by making the following correcting amendment:

PART 1956—DEBT SETTLEMENT

1. The authority citation for part 1956 continues to read as follows:

Authority: 5 U.S.C. 301; and 7 U.S.C. 1989.

§ 1956.147 [Removed and Reserved]

2. Remove and reserve § 1956.147.

Dated: November 12, 2015.
Lisa Mensah,
Under Secretary, Rural Development.
Dated: November 17, 2015.
Michael Scuse,
Under Secretary, Farm and Foreign Agricultural Services.

[FR Doc. 2015-29781 Filed 11-24-15; 8:45 am]

BILLING CODE 3410-XY-P